ENVIRONMENTAL PROTECTION AGENCY

[EPA-HQ-OPPT-2005 0029; FRL-7755-7]

Strategic Approach to International Chemicals Management (SAICM); Notice of Public Meeting

AGENCY: Environmental Protection Agency (EPA).

ACTION: Notice.

SUMMARY: This notice is to announce that the EPA and the State Department will be hosting a stakeholder meeting to inform U.S. Government viewpoints for the upcoming International Conference on Chemicals Management (ICCM), where participants are expected to agree to the Strategic Approach to International Chemicals Management (SAICM). See the website listed under Unit II. The United States is seeking comments to guide us as we work with other countries and participants to develop a SAICM that promotes the sound management of chemicals while facilitating the movement of chemicals and their products across borders without compromising human health or the environment. There are several working documents that will serve as a basis for the SAICM. This meeting will serve as an opportunity for stakeholders to share their views on these documents before they are finalized at the International Conference on Chemicals Management (ICCM) in February 2006.

DATES: The meeting will be held on Tuesday, January 17, 2006, 2 p.m.-4 p.m.

Requests to participate in the meeting, identified by docket identification (ID) number OPPT-2005-0029, must be received on or before January 17, 2006.

ADDRESSES: The meeting will be held at 1201 Constitution Ave. NW, Room 1153 EPA East (1st Floor) Washington, D.C. 20460

Requests to participate in the meeting may be submitted to the technical person listed under FOR FURTHER INFORMATION CONTACT.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: John Shoaff, OPPT International Team Leader, Environmental Assistance Division (7408M), Office of Pollution Prevention and Toxics, Environmental Protection Agency, 1200 Pennsylvania Ave., NW., Washington, DC 20460-0001; telephone number: (202) 564-0531; e-mail address: shoaff.john@epa.gov.

SUPPLEMENTARY INFORMATION:

I. General Information

A. Does this Action Apply to Me?

This action is directed to the public in general, and may be of particular interest to industry, trade associations, and non-governmental organizations that deal with and are interested in international chemicals management. If you have any questions regarding the applicability of this action to a particular entity, consult the technical person listed under FOR FURTHER INFORMATION CONTACT.

B. How Can I Get Copies of this Document and Other Related Information?

1. Docket. EPA has established an official public docket for this action under docket ID number EPA-HQ-OPPT-2005-0029. The official public docket consists of the documents specifically referenced in this action, any public comments received, and other information related to this action. Although, a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

EDOCKET, EPA's electronic public docket and comment system was replaced on November 25, 2005, by an enhanced Federal-wide electronic docket, management and comment system located at http://www.regulations.gov/. Follow the on-line instructions.

An electronic version of the public docket is available through EPA's electronic public docket and comment system, EPA Dockets. You may use EPA Dockets at http://www.epa.gov/edocket/ to submit or view public comments, access the index listing of the contents of the official public docket, and to access those documents in the public docket that are available electronically. Although, not all docket materials may be available electronically, you may still access any of the publicly available docket materials through the docket facility identified in Unit I.B.1. Once in the system, select “search,” then key in the appropriate docket ID number.

II. Background

An agenda for the stakeholder meeting will be available two weeks prior to the meeting. This meeting is open to the public.

The agenda and meeting documents for the ICCM are available at:

http://www.chem.unep.ch/ICCM/meeting_docs/ For general and background information on the SAICM including the report and documents from the most recent Prepartory Committee meeting (PrepCom3), see http://www.chem.unep.ch/saicm/.

III. How Can I Request to Participate in this Meeting?

You may submit a request to participate in this meeting to the technical person listed under FOR FURTHER INFORMATION CONTACT. Do not submit any information in your request that is considered CBI. Requests to participate in the meeting, identified by docket ID number OPPT-2005-0029, must be received on or before January 17, 2006.

List of Subjects

Environmental protection, International chemicals management, Toxic chemicals, Risk reduction, Pollution prevention

Dated: December 27, 2005.
Wendy C. Hamnett,
Acting Director Office of Pollution Prevention and Toxics

[FR Doc. 06-92 Filed 1-5-06; 8:45 am]

BILLING CODE 6560-50-S